DEPARTMENT OF DEFENSE

Department of the Navy

Privacy Act of 1974; System of Records

AGENCY: Department of the Navy, DoD.

ACTION: Notice to add a system of records.

SUMMARY: The Department of the Navy proposes to add a system of records notice to its inventory of record systems subject to the Privacy Act of 1974 (5 U.S.C. 552a), as amended.

DATES: This action will be effective on October 3, 2002, unless comments are received that would result in a contrary determination.

ADDRESSES: Send comments to the Department of the Navy, PA/FOIA Policy Branch, Chief of Naval Operations (N09B10), 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The proposed system report, as required by 5 U.S.C. 552a(r) of the Privacy Act, was submitted on August 22, 2002, to the House Committee on Government Reform, the Senate Committee on Governmental Affairs, and the Office of Management and Budget (OMB) pursuant to paragraph 4c of Appendix I to OMB Circular No. A-130, ‘Federal Agency Responsibilities for Maintaining Records About Individuals,’ dated February 8, 1996, (61 FR 6427, February 20, 1996).

Dated: August 26, 2002.
Patricia L. Toppings,
Alternate OSD Federal Register Liaison Officer, Department of Defense.

N07230-1

System name:

Unified Civilian Mariner Payroll System (UCPS).

System location:

Military Sealift Command Afloat, Personnel Management Center, Building 231, B Street, Camp Pendleton, Virginia Beach, VA 23451-0000.

Categories of individuals covered by the system:

All civil service mariners employed by Military Sealift Command and paid from command working capital funds.

Categories of records in the system:

Civil service mariners (CIVMARS) pay and leave records; source documents for posting of time and leave attendance; individual retirement deduction records, source documents, and control files; wage and separation information files; health benefit records; income tax withholding records; allowance and differential eligibility files; withholding and deduction authorization files, such as, but not limited to federal income tax withholding, insurance and retirement deductions; accounting documents files, input data posting media, including personnel actions affecting pay; accounting and statistical reports and computer edit listings; claims and waivers affecting pay; control logs and collection/disbursement vouchers; listings for administrative purposes, such as, but not limited to health insurance, life insurance, bonds, locator files, and checks to financial institutions; correspondence with the human resource office, dependents, attorneys, survivors, insurance companies, financial institutions, and other governmental agencies; leave and earnings statements; separation documents; official correspondence; federal, state and city tax reports and files; forms for pay changes and deductions; and documentation pertaining to garnishment of wages.

Authority for maintenance of the system:

5 U.S.C. 301, Departmental Regulations; 5 U.S.C. Chapter 53, 55, and 81; and E.O. 9397 (SSN).

Purpose(s):

To accurately compute individual employees pay entitlements, withhold required and authorized deductions, and issue payments for amounts due. The data in the payroll system is forwarded as required to the subject matter areas to ensure accurate accounting and recording of pay to civilian employees.

To verify and balance all payments, deductions, and contributions with the NC Form 1128 (Payroll for Personal Services Certification and Summary) in the APMC civilian pay office and other applicable subject matter areas, and to report this information to the recipients and other government and non-government agencies.

To extract or compile data and reports for management studies and statistical analyses for use internally as required by the Department of Defense and the Department of the Navy.

All records in this system are subject to use in authorized computer matching programs within DoD and with other Federal agencies or non-Federal agencies as regulated by the Privacy Act of 1974, as amended, (5 U.S.C. 552a).

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal Reserve Banks under procedures specified in 31 CFR part 210 for health benefit carriers to ensure proper credit for employee-authorized health benefit deductions.

To officials of labor organizations recognized under 5 U.S.C. Chapter 71 and applicable Executive Orders, when relevant and necessary to their duties of exclusive representation concerning personnel policies, practices, and matters affecting working conditions (including disclosure of reasons for non-deduction of dues, if applicable).

To the U.S. Treasury to maintain cash accountability.

To the Internal Revenue Service to record withholding and Social Security information.

To the Bureau of Employment Compensation to process disability claims.

To the Social Security Administration and Office of Personnel Management to credit the employee's account for Federal Insurance Contributions Act or Civil Service Retirement withheld.

To the National Finance Center, Office of Thrift Savings Plan, for participating employees.

To state revenue departments to reflect annual income subject to taxation.

To state employment agencies which require wage information to determine eligibility for unemployment compensation benefits of former employees.

To city revenue departments of appropriate cities to credit employees for city tax withheld.

To any agency or component thereof that needs the information for proper accounting of funds, such as, but not limited to the Office of Personnel Management to assist in resolving complaints, grievances, etc., and to compute Civil Service Retirement annuity.

To Federal, State, and local agencies for the purpose of conducting computer matching programs as regulated by the Privacy Act of 1974, as amended (5 U.S.C. 552a).

To extract or compile data and reports for management studies and statistical analyses for use internally or externally as required by other government agencies.

The DoD ‘Blanket Routine Uses’ published at the beginning of the Navy's compilation of systems of records notices also apply to this system.

Disclosure to consumer reporting agencies:

Disclosures pursuant to 5 U.S.C. 552a(b)(12) may be made from this system to ‘consumer reporting agencies’ as defined in the Fair Credit Reporting Act (15 U.S.C. 1681a(f)) or the Federal Claims Collection Act of 1966 (31 U.S.C. 3701(a)(3)). The purpose of this disclosure is to aid in the collection of outstanding debts owed to the Federal government; typically to provide an incentive for debtors to repay delinquent Federal government debts by making these debts part of their credit records.

The disclosure is limited to information necessary to establish the identity of the individual, including name, address, and taxpayer identification number (Social Security Number); the amount, status, and history of the claim; and the agency or program under which the claim arose for the sole purpose of allowing the consumer reporting agency to prepare a commercial credit report.

Policies and practices for storing, retrieving, accessing, retaining, and disposing of records in the system:

Storage:

Paper and computerized records.

Retrievability:

Information is retrieved by individual's name and Social Security Number.

Safeguards:

Records are accessed by person(s) who are properly screened and are responsible for and authorized to use the system of records in the performance in an official duty status. Records are in office buildings controlled by the screening of personal visitors. Access to the base is controlled by a guard. Payroll storage is in locked building only accessible by payroll staff or security staff. Payroll office entrance is through one door and to receptionist desk.

Retention and disposal:

Individual Employee Pay Records of Civilian Employees where no site audit is performed are maintained in an electronic database that may be a stand-alone payroll system or part of a combined personnel/payroll system are transferred to National Personnel Records Center (NPRC) after three years. NPRC will destroy 56 years after date of last entry.

Where an audit is performed, they are transferred two years after GAO on-site audit to NPRC (Civilian Personnel Records), 111 Winnebago Street, St. Louis, MO 63118. Earnings records are destroyed when 56 years after date of last entry.

Combined Federal Campaign (CFC): Records for Authorization for Individual Allotment to CFC are destroyed after the GAO Audit or when 3 years old, whichever is sooner.

Savings Bond Purchase File: Records of Authorization for Purchase and Request for Change are destroyed when superseded or after employee separates.

Bond registration files are destroyed 4 months after date of issue.

Reports of insurance deductions and related records are destroyed when 6 years old.

Other authorizations, such as union dues and savings, are destroyed after the GAO audit, or when 3 years old, whichever is sooner.

Thrift Savings Plan Election Form 1 authorizing deductions is destroyed when superseded or after employee separates.

Tax Files: Employee withholding allowance certificates are destroyed after superseded or obsolete upon separation of employee.

Copies of Report of Taxes Withheld and related papers are destroyed when 4 years old. Agency copies of Employee Wages and Tax Statements, such as IRS Form W-2, are destroyed when 4 years old.

Copies of report of federal tax withheld, such as IRS Form W-3, with papers relating to income, Social Security tax, Medicare, and those deductions are destroyed when 4 years old.

Civilian Payroll Accounting Records (Payrolls, Checklists and related Certification Sheets): The accounting copies are cut off at the end of the Fiscal Year, transferred to NPRC when 3 years old and destroyed when 10 years old. Information copies are destroyed when one year old.

Forms Used for Accumulating Civilian Personnel Cost and Payroll Data: Payroll messages, correspondence and other similar papers or cards. These records are destroyed when 2 years old.

Payroll control records and all subsidiary (supporting) documents, including payroll work-sheets or cards or rough payrolls in other forms; data processing printouts and audit trials that are used in reconciling data with payroll control records (except time cards). Where and off-site audit is made, the records are destroyed after The GAO audit. Where no on-audit is made records are destroyed when 3 years old.

Leave Records: Individual records of leave used and balances by type of leave are maintained in electronic database. This database may be a stand alone payroll system. Records are destroyed when 3 years old.

Time and Attendance Input Records. Records in either paper or electronic form that are used for accounting of time and attendance data into a payroll system are retained at the APMC. Records are destroyed after GAO audit or when 6 years old, whichever is sooner.

Record of Employee Leave, such as SF 1150, are prepared upon transfer or separation. Upon transfer or separation are filed on the right side of the Official Personnel Folder and destroyed when 3 years old.

Levy and Garnishment Files: The Official Notice of Levy or Garnishment (IRS Form 668A or equivalent), change slips, work papers, correspondence, release and other forms, and other records relating to a charge against a salary or other compensation for payment of back income taxes, child support or other debts of Federal employees. Records are destroyed 3 years after garnishment is terminated.

System manager(s) and address:

Director, Afloat Personnel Management Center, Code: APMC 8, P.O. Box 120, Virginia Beach, VA 23458-0120.

Courier/Express Mailing Address: Director, Afloat Personnel Management Center, Building 231, B Street, Camp Pendleton, Virginia Beach, VA 23451-0000.

Notification procedure:

Individuals seeking to determine whether this system of records contains information about themselves should address written inquiries to the Director, Afloat Personnel Management Center, Code: APMC 8, P.O. Box 120, Virginia Beach, VA 23458-0120.

Requesters should submit a written signed request that contains their full name, Social Security Number, position, current address, and telephone number.

Record access procedures:

Individuals seeking access to records about themselves contained in this system of records should address written inquiries to the Director, Afloat Personnel Management Center, Code: APMC 8, PO Box 120, Virginia Beach, VA 23458-0120.

Requesters should submit a written signed request that contains their full name, Social Security Number, position, current address, and telephone number.

Contesting record procedures:

The Navy's rules for accessing records, and for contesting contents and appealing initial agency determinations are published in Secretary of the Navy Instruction 5211.5; 32 CFR part 701; or may be obtained from the system manager.

Record source categories:

Individual; Standard Forms 50 (Personnel Action); time and attendance records; applications for leave and overtime authorizations; allotment authorizations; court orders, for garnishment of wages for child support and alimony payment; previous employers; financial institutions; medical institutions; automated systems and computer matching, state or local governments, other DoD components and Federal agencies such as, but not limited to, Social Security Administration, Internal Revenue Service, state revenue departments, State Department, Department of Defense components, and correspondence with attorneys, dependents, survivors, or guardians.

Exemptions claimed for the system:

None.

[FR Doc. 02-22289 Filed 8-30-02; 8:45 am]

BILLING CODE 5001-08-P